PRESIDENT'S COUNCIL ON INTEGRITY AND EFFICIENCY

Senior Executive Service Performance Review Board Membership

AGENCY: Environmental Protection Agency (EPA).

ACTION: Notice.

SUMMARY: This notice sets forth the names and titles of the current membership of the PCIE Performance Review Board as of September 23, 2004.

EFFECTIVE DATE: September 28, 2004.

FOR FURTHER INFORMATION CONTACT: Individual Offices of (the) Inspector General.

SUPPLEMENTARY INFORMATION:

I. Background

The Inspector General's Act of 1978, as amended, has created independent audit and investigative units—Offices of (the) Inspector General—at 57 Federal agencies. In 1981, the President's Council on Integrity and Efficiency (PCIE) was established by Executive Order as an interagency committee charged with promoting integrity and effectiveness in Federal programs. The PCIE is chaired by the Office of management and Budget's Deputy Director for Management, and comprised principally of the 29 Presidential appointed Inspectors General (IGs). The primary objectives of the PCIE are: (1) Mounting collaborative efforts to address integrity, economy, and effectiveness issues that transcend individual Federal agencies; and (2) increasing the professionalism and effectiveness of IG personnel throughout the Government.

II. PCIE Performance Review Board

Under 5 U.S.C. 4314(c)(1)-(5), and in accordance with regulations prescribed by the Office of Management and Budget, each agency is required to establish one or more Senior Executive Service (SES) performance review boards. The purpose of these boards is to review and evaluate the initial appraisal of a senior executive's performance by the supervisor, along with any recommendations to the appointing authority relative to the performance of the senior executive. The current members of the President's Council on Integrity and Efficiency Performance Review Board, as of September 23, 2004, were as follows:

Agency for International Development

Phone Number: (202) 712-1170; PCIE/ECIE Liaison—Donna Rosa (202) 712-4993

James R. Ebbitt—Deputy Inspector General

Adrienne Rish—Assistant Inspector General for Investigation

Robert S. Perkins—Counsel to the Inspector General

Bruce Crandlemire—Assistant Inspection General for Audit

Paula Hayes—Assistant Inspector General for Management

DEPARTMENT OF AGRICULTURE

Phone Number: (202) 720-8001 PCIE/ECIE Liaison—Cheryl Viani (202) 720-8001

Joyce N. Fleischman—Deputy Inspector General

Tracy A. LaPoint—Deputy Assistant Inspector General

David R. Gray—Counsel to the Inspector General

Suzanne M. Murrin—Assistant Inspector General for Policy Development and Resources Management

Mark R. Woods—Assistant Inspector General for Investigations

Jon E. Novak—Deputy Assistant Inspector General for Investigations

Robert W. Young, Jr.—Assistant Inspector General for Audit

Marlane T. Evans—Deputy Assistant Inspector General for Audit

DEPARTMENT OF COMMERCE

Phone Number: (202) 482-4661 PCIE/ECIE Liaison—Allison Lerner (202) 482-1577

Edward L. Blansitt—Deputy Inspector General

Anthony D. Mayo—Assistant Inspector General for Investigation

Elizabeth T. Barlow—Counsel to the Inspector General

Judith J. Gordon—Assistant Inspector General for Systems Evaluation

Jill A. Gross—Assistant Inspector General for Inspections and Program Evaluation

Jessica Rickenbach—Assistant Inspector General for Compliance and Administration

DEPARTMENT OF DEFENSE

Phone Number: (703) 604-8324 PCIE/ECIE Liaison—John R. Crane (703) 604-8324

Charles W. Beardall—Director, Defense Criminal Investigative Service—Office of the Deputy Inspector General for Investigations

Patricia Brannin—Assistant Inspector General for Audit Policy and Oversight, Office of the Deputy Inspector General for Inspections and Evaluations

John R. Crane—Assistant Inspector General for Communications and Congressional Liaison

Thomas Gimble—Deputy Inspector General for Intelligence

Donald Horstman—Director, Investigations of Senior Officials, Office of the Deputy Inspector General for Investigations

Francis E. Reardon—Deputy Inspector General for Auditing

Mary Ugone—Assistant Inspector General, Acquisition Management, Office of the Deputy Inspector General for Auditing

Keith West—Assistant Inspector General, Audit Followup and Technical Support, Office of the Deputy Inspector General for Auditing

Daniel F. Willkens—Deputy Director, Defense Criminal Investigative Service, Office of the Deputy Inspector General for Investigations

Shelton R. Young—Assistant Inspector General, Readiness and Logistics Support, Office of the Deputy Inspector General for Auditing

DEPARTMENT OF EDUCATION

Phone Number: (202) 205-6900 PCIE/ECIE Liaison—Kira Stankosky (202) 245-6997

Thomas Carter—Deputy Inspector General

Cathy Lewis—Assistant Inspector General for Evaluations, Inspections and Management Services

Helen Lew—Assistant Inspector General for Audit Services

George Rippey—Deputy Assistant Inspector General for Audit Services

Thomas Sipes—Assistant Inspector General for Investigative Services

Charles Coe—Assistant Inspector General for Information Technology and Computer Crimes Investigation

Mary Mitchelson—Counsel to the Inspector General

DEPARTMENT OF ENERGY

Phone Number: (202) 586-4393 PCIE/ECIE Liaison—Arlene Acton (202) 586-1807

John Hartman—Assistant Inspector General for Investigations

Rickey Hass—Assistant Inspector General for Audit Operations

Denise Smith—Assistant Inspector General for Resource Management

Christopher Sharpley—Deputy Inspector General for Investigations and Inspections

Linda Snider Director for Audit Policy and Administration Sanford Parnes Counsel to the Inspector General

DEPARTMENT OF HEALTH AND HUMAN SERVICES

Phone Number: (202) 619-3148 PCIE/ECIE Liaison—Sheri Denkensohn (202) 619-3148

Lewis Morris—Chief Counsel to the Inspector General

Tony Campbell—Assistant Inspector General for Operations Division, Office of Investigations

Donald Dille—Acting Deputy Inspector General for Management and Policy

Joe Green—Assistant Inspector General for Audit Management and Policy

DEPARTMENT OF HOMELAND SECURITY

Phone Number: (202) 254-4100

PCIE/ECIE Liaison—Judy Leonhardt (202) 254-4192

Richard L. Skinner—Deputy Inspector General

Richard N. Reback—Counsel to the Inspector General

J. Richard Berman—Assistant Inspector General for Audits

Robert L. Ashbaugh—Assistant Inspector General for Inspections, Evaluations, and Special Reviews

Edward F. Cincinnati—Assistant Inspector General for Administration

Elizabeth M. Redman—Assistant Inspector General for Investigations

Frank Deffer—Assistant Inspector General for Information Technology

Joseph Sullivan—Deputy Assistant Inspector General for Investigations

Edward M. Stulginsky—Deputy Assistant Inspector General for Audits

Belinda J. Finn—Deputy Assistant Inspector General for Audits

DEPARTMENT OF HOUSING AND URBAN DEVELOPMENT

Phone Number: (202) 708-0430

PCIE/ECIE Liaison—Helen Albert (202) 708-0614, Ext. 8187

Michael P. Stephens—Deputy Inspector General

James A. Heist—Assistant Inspector General for Audit

R. Joseph Haban—Assistant Inspector General for Investigation

Bryan P. Saddler—Counsel to the Inspector General

Michael R. Phelps—Deputy Assistant Inspector General for Audit

Daniel P. Salas—Deputy Assistant Inspector General for Investigation

DEPARTMENT OF THE INTERIOR

Phone Number: (202) 208-5745

PCIE/ECIE Liaison—Renee Pettis (202) 219-0637

Mary Kendall—Deputy Inspector General

Roger LaRouche—Assistant Inspector General for Audits

Kimberly Elmore—Deputy Assistant Inspector General for Audits

David Montoya—Assistant Inspector General for Investigations

John DeDona—Deputy Assistant Inspector General for Investigations

Michael Wood—Assistant Inspector General for Administrative Services and Information Management

Thomas Moyle—Deputy Assistant Inspector General for Administrative Services and Information Management

DEPARTMENT OF JUSTICE

Phone Number: (202) 514-3435

PCIE/ECIE Liaison—Linda N. Ruder (202) 616-4550

Carol F. Ochoa—Director, Office of Oversight and Review

Gregory T. Peters—Assistant Inspector General for Management and Planning

Paul A. Price—Assistant Inspector General for Evaluation and Inspections

DEPARTMENT OF LABOR

Phone Number: (202) 693-5100

PCIE/ECIE Liaison—David C. Pine (202) 693-5187

George J. Opfer—Deputy Inspector General

Nancy F. Ruiz de Gamboa—Assistant Inspector General for Management and Policy/Chief of Staff

Stephen J. Cossu—Assistant Inspector General for Labor Racketeering and Fraud Investigations

Elliot P. Lewis—Assistant Inspector General for Audit

Robert W. Curtis—Deputy Assistant Inspector General for Audit

Howard L. Shapiro—Counsel for the Inspector General

Thomas F. Farrell—Deputy Assistant Inspector General for Labor Racketeering and Fraud Investigations

DEPARTMENT OF STATE AND THE BROADCASTING BOARD OF GOVERNORS

Phone Number: (202) 647-9450

PCIE/ECIE Liaison—Michael Wolfson (703) 284-1840

Robert B. Peterson—Assistant Inspector General for Inspections

Mark Duda—Assistant Inspector General for Audits

DEPARTMENT OF TRANSPORTATION

Phone Number: (202) 366-1959

PCIE/ECIE Liaison—Brian J. Dettelbach (202) 366-8751

Todd J. Zinser—Deputy Inspector General

Alexis M. Stefani—Principal Assistant Inspector General for Auditing and Evaluation

David A. Dobbs—Assistant Inspector General for Aviation Audits

Theodore P. Alves—Assistant Inspector General for Financial and Information

Rebecca C. Leng—Deputy Assistant Inspector General for Information Technology and Computer Security

Debra S. Ritt—Assistant Inspector General for Surface and Maritime Programs

Mark R. Dayton—Assistant Inspector General for Competition and Economic Analysis

Robin K. Hunt—Deputy Assistant Inspector General for Hazardous Materials, Security and Special Programs

Charles H. Lee, Jr.—Assistant Inspector General for Investigations

Richard C. Beitel, Jr.—Deputy Assistant Inspector General for Investigations

Brian J. Dettelbach—Assistant Inspector General for Legal, Legislative, and External Affairs

DEPARTMENT OF TREASURY

Phone Number: (202) 622-1090

PCIE/ECIE Liaison—Adam D. Silverman (202) 927-5835

Dennis S. Schindel—Acting Inspector General

Adam D. Silverman—Assistant Inspector General for Management

Marla A. Freedman—Assistant Inspector General for Audit

Nick D. Swanstrom—Assistant Inspector General for Investigations

Robert A. Taylor—Deputy Assistant Inspector General for Program Audit

William H. Pugh, III—Deputy Assistant Inspector General for Financial Audit

Richard K. Delmar—Counsel to the Inspector General

TREASURY INSPECTOR GENERAL FOR TAX ADMINISTRATION/ DEPARTMENT OF THE TREASURY

Phone Number: (202) 622-6500

PCIE/ECIE Liaison—Luis Garcia (202) 927-7037

Pamela J. Gardiner—Deputy Inspector General for Audit

Margaret Begg—Assistant Inspector General for Audit

Michael Phillips—Assistant Inspector General for Audit

Gordon Milbourn—Assistant Inspector General for Audit

Daniel Devlin—Assistant Inspector General for Audit

Timothy Camus—Assistant Inspector General for Investigations

David Buckley—Assistant Inspector General for Investigations

Steven Jones—Deputy Inspector General for Investigations

Michael Delgado—Deputy Assistant Inspector General for Investigations

Patricia M. Greiner (Marty)—Assistant Inspector General for Management Services

Mary Anne Curtin—Counsel to the Inspector General

Joseph Hungate—Assistant Inspector General for Information Technology

DEPARTMENT OF VETERANS AFFAIRS

Phone Number: (202) 565-8620

PCIE/ECIE Liaison—Dana L. Moore (202) 565-8620

Daniel Petrole—Assistant Inspector General for Investigations

James O'Neill—Deputy Assistant Inspector General for Investigations

Michael Staley—Assistant Inspector General for Audit

Richard Ehrlichman—Assistant Inspector General for Management and Administration

John Daigh—Assistant Inspector General for Healthcare Inspections

John Bilobran—Deputy Inspector General for Healthcare Inspections

Maureen Regan—Counselor to the Inspector General

ENVIRONMENTAL PROTECTION AGENCY

Phone Number: (202) 566-0847

PCIE/ECIE Liaison—John M. Mullins (202) 566-2675

Elissa Karpf—Special Assistant to the Deputy Inspector General

Mark Bialek—Counsel to the Inspector General

Eileen McMahon—Assistant Inspector General for Congressional and Public Liaison

Melissa Heist—Assistant Inspector General for Audit

Kwai Chan—Assistant Inspector General for Program Evaluation

Stephen Nesbitt—Assistant Inspector General for Investigations

EQUAL EMPLOYMENT OPPORTUNITY COMMISSION

Phone Number: (202) 663-4379

PCIE/ECIE Liaison—Larkin Jennings (202) 663-4391

Aletha L. Brown—Inspector General

FEDERAL TRADE COMMISSION

Phone Number: (202) 326-2800

PCIE/ECIE Liaison—Frederick J. Zirkel (202) 326-2800

Frederick J. Zirkel—Inspector General

GENERAL SERVICES ADMINISTRATION

Phone Number: (202) 501-0450

PCIE/ECIE Liaison—Jack C. Lebo (202) 501-2319

Joel S. Gallay—Deputy Inspector General

Kathleen S. Tighe—Counsel to the Inspector General

Eugene L. Waszily—Assistant Inspector General for Auditing

Andrew Patchan, Jr.—Deputy Assistant Inspector General for Auditing

James E. Henderson—Assistant Inspector General for Investigations

Charles J. Augone—Deputy Assistant Inspector General for Investigations

NATIONAL AERONAUTICS AND SPACE ADMINISTRATION

Phone Number: (202) 358-1220

PCIE/ECIE Liaison—Madeline Chulumovich (202) 358-0615

Thomas Howard—Deputy Inspector General

Frank LaRocca—Counsel to the Inspector General

Lance Carrington —Assistant Inspector General for Investigations

Alan Lamoreaux—Assistant Inspector General for Management and Policy

NATIONAL SCIENCE FOUNDATION

Phone Number: (703) 292-7100

PCIE/ECIE Liaison—Gloria VanKan (703) 292-5017

Thomas (Tim) Cross—Deputy Inspector General

Peggy Fischer—Assistant Inspector General for Investigations

NUCLEAR REGULATORY COMMISSION

Phone Number: (301) 415-5930

PCIE/ECIE Liaison—Marie Lopez/Nagle (301) 415-5898

David C. Lee—Deputy Inspector General

Stephen D. Dingbaum—Assistant Inspector General for Audits

Brian C. Dwyer—Assistant Inspector General for Investigations

OFFICE OF PERSONNEL MANAGEMENT

Phone Number: (202) 606-1200

PCIE/ECIE Liaison—Gary R. Acker (202) 606-2444

Joseph R. Willever—Deputy Inspector General

Norbert E. Vint—Assistant Inspector General for Investigations

Harvey D. Throp—Assistant Inspector General for Audits

E. Jeremy Hutton—Assistant Inspector General for Legal Affairs

Daniel K. Marella—Assistant Inspector General for Policy, Resources Management, and Oversight

Dennis K. Black—Deputy Assistant Inspector General for Audits

RAILROAD RETIREMENT BOARD

Phone Number: (312) 751-4690

PCIE/ECIE Liaison—Linda Wimbourne (312) 751-4993

William Tebbe—Assistant Inspector General for Investigations

Henrietta B. Shaw—Assistant Inspector General for Audit

SMALL BUSINESS ADMINISTRATION

Phone Number: (202) 205-6586

PCIE/ECIE Liaison—Robert F. Fisher (202) 205-6583

Peter L. McClintock—Deputy Inspector General

Robert G. Seabrooks—Assistant Inspector General for Auditing

Daniel J. O'Rourke—Assistant Inspector General for Investigations

SOCIAL SECURITY ADMINISTRATION

Phone Number: (410) 966-8385

PCIE/ECIE Liaison—H. Douglas Cunningham (202) 358-6319

Steven L. Schaeffer—Assistant Inspector General for Audit

Richard A. Rohde—Acting Assistant Inspector General for Investigations

Kathy Buller—Chief Counsel to the Inspector General

UNITED STATES POSTAL SERVICE

Phone Number: (703) 248-2300

PCIE/ECIE Liaison—Tom Sharkey (703) 248-4506

Scott Wilson—Deputy Inspector General

Tom Coogan—Assistant Inspector General, General Counsel

Gladis Griffith—Deputy Assistant Inspector General, General Counsel

Ron Stith—Assistant Inspector General, Mission Support

Cecelia Rosser—Assistant Inspector General for Investigations

Randy Stone—Deputy Assistant Inspector General for Investigations-West

Levan Griffith—Deputy Assistant Inspector General for Investigations-East

John Seeba—Assistant Inspector General for Audits

Colleen McAntee—Deputy Assistant Inspector General for Audits-Financial Management

Mary Demory—Deputy Assistant Inspector General for Audits-Operations & Human Capital

Ronald Merryman—Deputy Assistant Inspector General for Audits-Technology, Marketing & Oversight

Dated: September 23, 2004.
Nikki L. Tinsley,
Inspector General, Environmental Protection Agency, and Chair, Human Resources Committee, PCIE.

[FR Doc. 04-21683 Filed 9-27-04; 8:45 am]

BILLING CODE 4150-04-P